FEDERAL MARITIME COMMISSION

Sunshine Act Meeting

AGENCY HOLDING THE MEETING: Federal Maritime Commission.

TIME AND DATE: June 24, 2015; 10:00 a.m.

PLACE: 800 N. Capitol Street NW., First Floor Hearing Room, Washington, DC.

STATUS: The first portion of the meeting will be held in Open Session; the second in Closed Session.

MATTERS TO BE CONSIDERED:

Open Session

1. Public Access to Commission Information and Records

2. S. 2444—Howard Coble Coast Guard and Maritime Transportation Act of 2014

3. Briefing on 2nd Global Maritime Regulatory Summit

4. Briefing on the Maersk/MSC Vessel Sharing Agreement, FMC Agreement No. 012293

5. Docket No. P1-14: Petition of United Arab Shipping Company for Exemption from the Commission's Controlled Carrier Rules—46 U.S.C. § 40703

6. U.S. Port Congestion and Related International Supply Chain Issues—An Overview of Stakeholder Discussions at FMC Port Forums

Closed Session

1. Pacific Ports Operational Improvement Agreement, FMC Agreement No. 201227

CONTACT PERSON FOR MORE INFORMATION: Karen V. Gregory, Secretary, (202) 523 5725.

Karen V. Gregory,
Secretary.

[FR Doc. 2015-15326 Filed 6-17-15; 4:15 pm]

BILLING CODE 6731-AA-P